DEPARTMENT OF COMMERCE

National Oceanic and Atmospheric Administration

[RTID 0648-XA515]

Magnuson-Stevens Act Provisions; General Provisions for Domestic Fisheries; Application for Exempted Fishing Permit; Correction

AGENCY: National Marine Fisheries Service (NMFS), National Oceanic and Atmospheric Administration (NOAA), Commerce.

ACTION: Notice; request for comments; correction.

SUMMARY: NMFS is correcting a notice that informed the public that the Assistant Regional Administrator for Sustainable Fisheries, Greater Atlantic Region, NMFS, has made a preliminary determination that an Exempted Fishing Permit application contains all of the required information and warrants further consideration. The catch estimates provided in kilograms in Table 1 were incorrect. The table also erroneously included nudibranch in the list of federally managed species.

DATES: Comments must be received on or before October 1, 2020.

ADDRESSES: You may submit written comments by either of the following methods:

• Email: nmfs.gar.efp@noaa.gov. Include in the subject line “Comments on CFRF Beam Trawl Survey EFP.”

• Mail: Michael Pentony, Regional Administrator, NMFS, Greater Atlantic Regional Fisheries Office, 55 Great Republic Drive, Gloucester, MA 01930. Mark the outside of the envelope “Comments on CFRF Beam Trawl Survey EFP.”

FOR FURTHER INFORMATION CONTACT: Maria Fenton, Fishery Management Specialist, 978-281-9196, Maria.Fenton@noaa.gov.

SUPPLEMENTARY INFORMATION: On September 16, 2020, NMFS published a notice that informed the public that the Assistant Regional Administrator for Sustainable Fisheries, Greater Atlantic Region, NMFS, has made a preliminary determination that an Exempted Fishing Permit (EFP) application contains all of the required information and warrants further consideration. The catch estimates provided in kilograms in Table 1 were incorrect. The table also erroneously included nudibranch in the list of federally managed species. This correction does not change the scope or impact of the proposed EFP. This correction is necessary to provide interested parties the opportunity to comment on the application with correct and complete information.

Correction

In the Federal Register of September 16, 2020, in FR Doc 2020-20389, on page 57835, Table 1 is corrected to read as follows:

Table 1—Estimated Catch of Federally Regulated Species per Survey Trip, and Total Estimated Catch
Common name | Scientific name | Estimated catch per trip | Estimated total survey catch
Little skate | Leucoraja erinacea | 976.9 lb (443.1 kg) | 23,444.8 lb (10,634.4 kg)
Sea scallop | Placopectin magellanicus | 754.0 lb (342.0 kg) | 18,095.5 lb (8,208.0 kg)
Winter skate | Leucoraja ocellata | 484.4 lb (219.7 kg) | 11,624.5 lb (5,272.8 kg)
Leucoraja spp. skates (immature) | Leucoraja spp. | 132.5 lb (60.1 kg) | 3,179.9 lb (1,442.4 kg)
Winter flounder | Pseudopleuronectes americanus | 108.9 lb (49.4 kg) | 2,613.8 lb (1,185.6 kg)
Monkfish | Lophius americanus | 96.1 lb (43.6 kg) | 2,306.9 lb (1,046.4 kg)
Spiny dogfish | Squalus acanthias | 54.0 lb (24.5 kg) | 1,296.3 lb (588.0 kg)
Clearnose skate | Raja eglanteria | 53.1 lb (24.1 kg) | 1,275.2 lb (578.4 kg)
Ocean quahog | Arctica islandica | 34.0 lb (15.4 kg) | 814.8 lb (369.6 kg)
Yellowtail flounder | Pleuronectes ferruginea | 29.3 lb (13.3 kg) | 703.7 lb (319.2 kg)
Barndoor skate | Raja laevis | 29.1 lb (13.2 kg) | 698.4 lb (316.8 kg)
Summer flounder | Paralichthys dentatus | 29.1 lb (13.2 kg) | 698.4 lb (316.8 kg)
Windowpane flounder | Scophthalmus aquosus | 23.8 lb (10.8 kg) | 571.4 lb (259.2 kg)
Silver hake | Merluccius bilinearis | 15.9 lb (7.2 kg) | 381.0 lb (172.8 kg)
Red hake | Urophycis chuss | 12.1 lb (5.5 kg) | 291.0 lb (132.0 kg)
American lobster | Homarus americanus | 11.5 lb (5.2 kg) | 275.1 lb (124.8 kg)
Witch flounder | Glyptocephalus cynoglossus | 10.6 lb (4.8 kg) | 254.0 lb (115.2 kg)
Ocean pout | Macrozdarces americanus | 9.5 lb (4.3 kg) | 227.5 lb (103.2 kg)
Longfin inshore squid | Doryteuthis pealeii | 5.3 lb (2.4 kg) | 127.0 lb (57.6 kg)
Scup | Stenotomus chrysops | 5.3 lb (2.4 kg) | 127.0 lb (57.6 kg)
Butterfish | Peprilus triacanthus | 1.5 lb (0.7 kg) | 37.0 lb (16.8 kg)
Surf clam | Spisula solidissima | 1.5 lb (0.7 kg) | 37.0 lb (16.8 kg)
Black sea bass | Centropristis striata | 0.4 lb (0.2 kg) | 10.6 lb (4.8 kg)
Haddock | Melanogrammus aeglefinus | 0.4 lb (0.2 kg) | 10.6 lb (4.8 kg)

Authority: 16 U.S.C. 1801 et seq.

Dated: September 23, 2020.
Jennifer M. Wallace,
Acting Director, Office of Sustainable Fisheries, National Marine Fisheries Service.

[FR Doc. 2020-21402 Filed 9-28-20; 8:45 am]

BILLING CODE 3510-22-P